DEPARTMENT OF HOMELAND SECURITY

Federal Emergency Management Agency

Agency Information Collection Activities: Submission for OMB Review; Comment Request

AGENCY: Federal Emergency Management Agency, DHS.

ACTION: Notice; 30-day notice and request for comments; Telephone Survey, OMB 1660-0057, Revision of a currently approved collection.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

SUPPLEMENTARY INFORMATION: Current national conditions of increased risk for man-made and/or accidental chemical disasters create great demand for the constant monitoring of preparedness-related activities. Since the Chemical Stockpile Emergency Preparedness Program (CSEPP) is a cooperative effort among local, State, and Federal governments working closely with the public in communities surrounding fixed hazards, documenting performance at each of these levels is vital for program planning and management in each of the CSEPP sites. Furthermore, since no preparedness program can be successful without the public's understanding and cooperation, input from the residents and businesses of immediate and/or surrounding areas is vital for program managers to design custom-tailored strategies to educate and communicate risks and action plans at the local level. Failure to collect this information will hamper the program's ability to document strengths and weaknesses at each site, forcing managers to rely on intuitive rather than on factual decision-making, with no objective basis to quantify program performance, a requirement of the Government Performance and Results Act (GPRA).

Title: Chemical Stockpile Emergency Preparedness Program (CSEPP) Evaluation and Customer Satisfaction Survey.

Type of Information Collection: Revision of a currently approved collection.

OMB Number: OMB 1660-0057.

Abstract: The Department of Homeland Security (DHS)/FEMA's CSEPP will collect data from State and local governments to measure program effectiveness and establish a quantitative baseline of customer satisfaction with program products and services. Data findings will be used to set customer service standards while providing benchmarks for program monitoring and evaluation. This information collection also constitutes an assessment tool that measures public knowledge of emergency preparedness and response actions in the event of a chemical emergency affecting any of the seven CSEPP sites and surrounding communities. Data from this collection will continue to provide a basis for program planning and management through the development and/or modification of performance standards, the ability to monitor program changes and trends over time, and the capability to objectively evaluate outreach performance against best practices (benchmarks) in multi-hazard readiness programs.

Affected Public: State, Local or Tribal governments.

Number of Respondents: 2,224.

Estimated Time per Respondent: 0.25 hours.

Estimated Total Annual Burden Hours: 556 hours.

Annual Hour Burden
Data collection activity/instrument | Number of respondents | Frequency of responses | Hour burden per response | Annual responses | Total annual burden hours
| (A) | (B) | (C) | (D) = (A × B) | (C × D)
Open-ended Questionnaire¹ | 170 | 1 | 0.25 | 170 | 42.50
Site Survey Questionnaires² |  |  |  |  |
Anniston, AL | 961 | 1 | 0.25 | 961 | 240.25
Pine Bluff, AR | 1,093 | 1 | 0.25 | 1,093 | 273.25
* Total | 2,224 |  |  | 2,224 | 556.00
Notes: ¹ State and local officials. ² Individual/residential respondents.
* Since publication of the 60 day Federal Register Notice, Volume 72, Number 224, page 65585, the number of burden hours have decreased from 1910 to 556 due to a drop in the number of sites surveyed and therefore number of respondents surveyed.

Frequency of Response: Annually.

Comments: Interested persons are invited to submit written comments on the proposed information collection to the Office of Information and Regulatory Affairs, Office of Management Budget, Attention: Nathan Lesser, Desk Officer, Department of Homeland Security/FEMA, and sent via electronic mail to oira_submission@omb.eop.gov or faxed to (202) 395-6974. Comments must be submitted on or before May 21, 2008.

FOR FURTHER INFORMATION CONTACT: Requests for additional information or copies of the information collection should be made to Director, Records Management Division, 500 C Street, SW., Washington, DC 20472, Mail Drop Room 301, 1800 S. Bell Street, Arlington, VA 22202, facsimile number (202) 646-3347, or e-mail address FEMA-Information-Collections@dhs.gov.

Dated: April 2, 2008.
John A. Sharetts-Sullivan,
Director, Records Management Division, Office of Management, Federal Emergency Management Agency, Department of Homeland Security.

[FR Doc. E8-8561 Filed 4-18-08; 8:45 am]

BILLING CODE 9110-01-P